Proclamation 7389 of December 29, 2000

To Extend Nondiscriminatory Treatment (Normal Trade Relations Treatment) to the Products of the Republic of Georgia

By the President of the United States of America

A Proclamation

1. The Republic of Georgia (Georgia) has made progress, since its emergence from communism, toward democratic rule and the creation of a free market economy. Georgia has also made considerable progress toward respecting fundamental human rights consistent with the objectives of title IV of the Trade Act of 1974 (the “Trade Act”) (19 U.S.C. 2431, et seq.). Further, I have found Georgia to be in full compliance with the freedom of emigration requirements under the Trade Act. In 1993, Georgia concluded a bilateral trade agreement with the United States and in 1994 concluded a bilateral investment treaty with the United States. Georgia acceded to the World Trade Organization (WTO) on June 14, 2000. The extension of unconditional normal trade relations treatment to the products of Georgia will permit the United States to avail itself of all rights under the WTO with respect to Georgia.

2. Pursuant to section 3002 of Public Law 106-476, 114 Stat. 2101, 2175, and having due regard for the findings of the Congress in section 3001 of that law, I hereby determine that title IV of the Trade Act should no longer apply to Georgia.

NOW, THEREFORE, I, WILLIAM J. CLINTON, President of the United States of America, acting under the authority vested in me by the Constitution and the laws of the United States, including but not limited to section 3002 of Public Law 106-476, do hereby proclaim that:

(1) Nondiscriminatory treatment (normal trade relations treatment) shall be extended to the products of Georgia; and

(2) The extension of nondiscriminatory treatment to the products of Georgia shall be effective as of the date of signature of this proclamation.

IN WITNESS WHEREOF, I have hereunto set my hand this twenty-ninth day of December, in the year of our Lord two thousand, and of the Independence of the United States of America the two hundred and twenty-fifth.

wj

[FR Doc. 01-320

Filed 1-2-01; 12:32 pm]

Billing code 3195-01-P